DEPARTMENT OF TRANSPORTATION

Federal Aviation Administration

Notice of Intent To Prepare an Environmental Impact Statement (EIS) for the Proposed Replacement Terminal Project at Bob Hope “Hollywood Burbank” Airport, Burbank, Los Angeles County, California

AGENCY: Federal Aviation Administration, (FAA), DOT.

ACTION: Notice of Intent to Prepare an Environmental Impact Statement and Request for Scoping Comments.

SUMMARY: The Federal Aviation Administration (FAA) is issuing this notice under the provisions of the National Environmental Policy Act (NEPA) of 1969, as amended to advise the public that an Environmental Impact Statement (EIS) will be prepared to assess the potential impacts of the proposed Replacement Terminal Project and its connected actions. To ensure that all significant issues related to the proposed action are identified, one (1) public scoping meeting and one (1) governmental agency-scoping meeting will be held.

FAA is the lead agency on the preparation of the EIS.

FOR FURTHER INFORMATION CONTACT: Mr. David F. Cushing, Manager, Los Angeles Airports District Office, LAX-600, Federal Aviation Administration, Western-Pacific Region—Los Angeles Airports District Office, LAX-600, 777 S. Aviation Boulevard, Suite 150, El Segundo, California 90245.

SUPPLEMENTARY INFORMATION: The purpose of this notice is to inform federal, state, and local government agencies, and the public of the intent to prepare an EIS and to conduct a public and agency scoping process. Information, data, opinions, and substantive comments obtained throughout the scoping process will be considered in preparing the draft EIS.

The scoping process for this EIS will include a comment period for interested agencies and interested persons to submit oral and/or written comments representing the concerns and issues they believe should be addressed. Please submit any written comments to the FAA not later than 5:00 p.m. Pacific Time, Friday, March 1, 2019.

The EIS will be prepared in accordance with the procedures described in FAA Order 5050.4B, National Environmental Policy Act (NEPA) Implementing Instructions for Airport Actions, and FAA Order 1050.1F, Environmental Impacts: Policies and Procedures. The Burbank-Glendale-Pasadena Airport Authority, the owner of Bob Hope “Hollywood Burbank” Airport, proposes the following elements of the proposed Replacement Terminal: Construction of a 355,000-square-foot replacement airline passenger terminal with 14 gates and to meet FAA standards; construction of a 413,000-square-foot aircraft parking apron that would accommodate 14 aircraft; construction of approximately a 200 space employee automobile surface parking lot north of the proposed replacement passenger terminal with additional employee parking using public parking facilities in the Southeast Quadrant; construction of a five-to-seven story public automobile parking structure that would not exceed 6,637 parking spaces; construction of a new multi-lane road extending from the intersection of North Hollywood Way and Winona Avenue that would loop around the proposed parking structures to provide vehicle access to the replacement passenger terminal and parking structures; realigning Avenue A, the existing terminal loop road in the southeast quadrant of the Airport would be realigned to permit the extension of Taxiways C and A while still allowing access to the Regional Intermodal Transportation Center and long term parking in the Southeast Quadrant; construction of an 8,000-square-foot replacement airline cargo building adjacent to the replacement passenger terminal building; construction of a replacement Aircraft Rescue and Fire Fighting (ARFF) station south of the replacement passenger terminal with the existing location (Northwest Quadrant) located in a hangar becoming available for general aviation uses; construction of a new 8,000-square-foot Ground Support Equipment (GSE) and terminal maintenance building north of the replacement terminal building with about 2,000 square feet used for equipment and tool storage and office space for maintenance staff; construction of a new central utility plant; construction of a storage and staging area for ground transportation vehicles (taxis, shared vans, Uber, Lyft, etc.) west of the North Hollywood Way/Winona Avenue entrance; extend Taxiway A from Runway 08-26 south to the Runway 33 threshold, and extend Taxiway C between Taxiway G and the Runway 26 threshold providing full-length parallel taxiways; relocation of the airport service road; demolition and removal of the existing 232,000-square-foot passenger terminal, existing commercial aircraft ramp and adjacent taxilanes; removal of parking booth and employee parking lot; Close parking Lots A, B and remove all structures; removal of tenant-leased pavement to allow for the development of the replacement passenger terminal; demolition of the existing 16,000-square-foot airline cargo and GSE maintenance building and demolition of the shuttle bus dispatch office and staging area.

Within the EIS, FAA proposes to consider a range of alternatives that could potentially meet the purpose and need to relocate the existing terminal building and enhance airfield safety at Bob Hope “Hollywood Burbank” Airport including, but not limited to, the following:

Replacement Passenger Terminal in the Northeast Quadrant—Sponsor's Proposed Action: As described in detail above.

Replacement Passenger Terminal in the Southeast Quadrant: Construction of a replacement passenger terminal in the Southeast Quadrant of the Airport.

Replacement Passenger Terminal in the Southwest Quadrant: Construction of a replacement passenger terminal in the Southwest Quadrant of the Airport.

Replacement Passenger Terminal in the Northwest Quadrant: Construction of a replacement passenger terminal in the Northwest Quadrant of the Airport.

Construction of a New Airport: Construction of a new airport designed to meet all FAA standards.

Construction of Remote Landside Facility: Construction of a remote “landside” facility and an on-Airport “airside” facility. Ground access, public parking, and terminal building facilities would be located off-Airport and connected to the aircraft parking positions and passenger holdrooms on-Airport by a ground transportation link.

Transfer of Aviation Activity to Other Airports: Transfer or shifting of aviation activity to another existing public airport (or airports) in Southern California.

Use of Other Modes of Transportation: Use of other modes of transportation, including automobiles, buses, existing passenger trains, or proposed high-speed rail facilities.

Airfield Reconfiguration: Relocation of the existing runways at the Airport to be away from the existing passenger terminal in an effort to comply with FAA standards.

No Action Alternative: Under this alternative, the existing airport would remain unchanged. The Authority would take no action to develop a replacement passenger terminal.

Public Scoping and Agency Meetings: To ensure that the full range of issues related to the proposed action is addressed and that all significant issues are identified, comments and suggestions are invited from all interested parties. Public and agency scoping meetings will be conducted to identify any significant issues associated with the proposed action.

A governmental agency scoping meeting for all federal, state, and local regulatory agencies which have jurisdiction by law or have special expertise with respect to any potential environmental impacts associated with the proposed action will be held on Tuesday, January 29, 2019. This meeting will take place at 1:00 p.m. Pacific Time, at the Buena Vista Branch Library, 300 N Buena Vista Street, Burbank, California 91505. A notification letter will be sent in advance of the meeting.

One public scoping meeting for the general public will be held. The public scoping meeting will be held from 6:00 p.m. to 8:00 p.m. Pacific Time on Tuesday, January 29, 2019. The public scoping meeting will be conducted at the Buena Vista Branch Library, 300 N Buena Vista Street, Burbank, California 91505. A legal notice will be also be placed in newspapers having general circulation in the study area. The newspaper notice will notify the public that scoping meetings will be held to gain their input concerning the proposed action, alternatives to be considered, and impacts to be evaluated.

The FAA is aware that there are Native American tribes with a historical interest in the area. The FAA will interact on a government-to-government basis, in accordance with all executive orders, laws, regulations, and other memoranda. The tribes will also be invited to participate in accordance with NEPA and Section 106 of the National Historic Preservation Act.

Issued in El Segundo, California, December 12, 2018.
Arlene Draper,
Acting Director, Office of Airports, Western-Pacific Region, AWP-600.

[FR Doc. 2018-27373 Filed 12-17-18; 8:45 am]

BILLING CODE 4910-13-P